DEPARTMENT OF HOUSING AND URBAN DEVELOPMENT

[Docket No. FR-5831-N-03]

30-Day Notice of Proposed Information Collection: National Disaster Resilience Competition (NDRC) Phase 1 and Phase 2 Application and Community Development Block Grant National Disaster Resilience (CDBG-NDR) Pre- and Post-Award Planning and Reporting Requirements in the Disaster Recovery Grant Reporting (DRGR) System

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 4, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard @hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on October 20, 2014.

A. Overview of Information Collection

Title of Information Collection: National Disaster Resilience Competition (NDRC) and Community Development Block Grant National Disaster Recovery (CDBG-NDR) Pre- and Post-Award planning and reporting requirements in the Disaster Recovery Grant Reporting (DRGR) system.

OMB Approval Number: 2506-0203.

Type of Request: Revision of a currently approved collection.

Form Number: Application for Federal Assistance (SF-424). Applicants must include the nine digit zip code (zip code plus four digits) associated to the applicant address in box 8d of the SF424. The DUNS number used must have an active registration in SAM.

Disclosure of Lobbying Activities (SF-LLL). If this form does not apply, applicants will indicate that (e.g., writing “N/A”) on the form and submit it with their applications.

Applicant/Recipient Disclosure/Update Report (form HUD-2880) (“HUD Applicant Recipient Disclosure Report”);

Facsimile Transmittal Form on Grants.gov (HUD-96011). Third Party Documentation Facsimile Transmittal, if applicable.

Description of the need for the information and proposed use: This information describes the application requirements of National Disaster Resilience Competition (NDRC) Notice of Funding Availability (NOFA). The data required includes narratives, attachments and standard forms needed to respond to thresholds, rating factors, and other criteria in the Phase 1 and 2 NOFA applications. Successful Phase 1 applicants will be invited to submit more detailed Phase 2 applications, which will determine Community Development Block Grant National Disaster Resilience (CDBG-NDR) funding awards. CDBG-NDR awardees will be required to submit Action Plans, Quarterly Performance Reports (QPRs) and vouchers for payment in HUD's Disaster Recovery Grants Reporting (DRGR) system.

In response to comments received during the 60-day Federal Register notice for this Submission, HUD has added a new checklist for the Most-Impacted and Distressed Threshold response to the NDRC NOFA application requirements. An additional 2 hours were added to the burden hours for the Threshold response in each of Phase 1 and Phase 2.

Respondents are eligible local and State governments that experienced a presidentially-declared major disaster during 2011-2013 as identified in the CDBG-NDR NOFA.

Total Estimated Burdens:

Full NDRC Phase 1 application: Description of information collection | Full NDRC Phase 1 application: Number of respondents | Full NDRC Phase 1 application: Number of responses | Full NDRC Phase 1 application: Total number of responses | Full NDRC Phase 1 application: Hours per response | Full NDRC Phase 1 application: Total hours | Full NDRC Phase 1 application: Cost per response | Full NDRC Phase 1 application: Total cost
Phase 1 Threshold Determination | 67 | 1 | 67 | 37 | 2,479 | $1,288 | $86,269
Factor Narratives and Attachments | 67 | 1 | 67 | 120 | 8,040 | 4,176 | 279,792
SF-424 | 67 | 0 | 0 | 0 | 0 | 0 | 0
SF-LLL | 67 | 0 | 0 | 0 | 0 | 0 | 0
HUD-2880 | 67 | 1 | 67 | 4 | 268 | 96 | 25,835
HUD-96011 | 67 | 1 | 67 | 0.03 | 2 | 1 | 67
Total Phase 1 Paperwork Burden | 67 | 4 | 268 | 161 | 10,789 | 5,561 | 391,963

Full NDRC Phase 2 application: Description of information collection | Full NDRC Phase 2 application: Number of respondents ** | Full NDRC Phase 2 application: Number of responses | Full NDRC Phase 2 application: Total number of responses | Full NDRC Phase 2 application: Hours per response | Full NDRC Phase 2 application: Total hours | Full NDRC Phase 2 application: Cost per response | Full NDRC Phase 2 application: Total cost
Phase 2 Threshold Determination | 67 | 1 | 69 | 35 | 2,415 | 1,218 | 84,042
Factor Narratives and Attachments | 67 | 1 | 67 | 150 | 10,050 | 5,220 | 349,740
SF-424 | 67 | 0 | 0 | 0 | 0 | 0 | 0
SF-LLL | 67 | 0 | 0 | 0 | 0 | 0 | 0
HUD-2880 | 67 | 1 | 67 | 4 | 268 | 96 | 25,835
HUD-96011 | 67 | 1 | 67 | 0.03 | 2 | 1 | 67
Total Phase 2 Paperwork Burden | 67 | 4 | 270 | 189 | 12,735 | 6,535 | 459,684
* Based number of hours per response at GS-13 salary of $34.80/hr.
** Maximum if all eligible Phase 1 Applicants apply and are invited to submit Phase 2 applications.

CDBG-NDR Information collection in DRGR: Description of information collection | CDBG-NDR Information collection in DRGR: Number of respondents * | CDBG-NDR Information collection in DRGR: Number of responses | CDBG-NDR Information collection in DRGR: Total number of responses | CDBG-NDR Information collection in DRGR: Hours per response | CDBG-NDR Information collection in DRGR: Total hours | CDBG-NDR Information collection in DRGR: Cost per response ** | CDBG-NDR Information collection in DRGR: Total cost
PRE-AWARD SUBMISSION REQUIREMENTS
Non-recurring:
Published Action Plan | 67 | 1 | 67 | 40 | 2,680 | $1,392 | $93,264
SF 424 | 67 | 1 | 67 | 1 | 67 | 35 | 2,345
Procurement, Financial Controls and DOB documentation | 67 | 1 | 67 | 6 | 402 | 209 | 14,003
Performance and Financial Projections | 67 | 1 | 67 | 8 | 536 | 278 | 18,626
POST-AWARD
Grant Agreement (HUD 40092) | 67 | 1 | 67 | 1 | 67 | 35 | 2,345
Grantee's Written Agreements | 67 | 1 | 67 | 5 | 335 | 174 | 11,658
DRGR Activation, Activity Set-Up and Completion | 67 | 1 | 67 | 10 | 670 | 348 | 23,316
Total Pre- And Post-Award Paperwork Burden | 67 | 7 | 469 | 71 | 4,757 | 2,471 | 165,557
REPORTING (Annual)
Recurring:
Average Sized Grants Online Quarterly Reporting via DRGR | 67 | 4 | 268 | 9 | 2,412 | 313 | 83,884
Average-Sized Grants Online Voucher Submissions | 67 | 19 | 1,273 | 0.22 | 280 | 8 | 10,184
Total Annual Reporting Paperwork Burden | 67 | 23 | 1,541 | 9.22 | 14,208 | 349 | 537,809
Total CDBG-NDR Paperwork Burden (Pre- and Post- Award and Reporting) | 67 | 30 | 2,010 | N/A | 18,965 | N/A | 703,366
* Maximum if all eligible Phase 1 Applicants apply and are invited to submit Phase 2 applications.
** Based number of hours per response at GS-13 salary of $34.80/hr.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: January 23, 2015.
Colette Pollard,
Department Reports Management Officer, Office of the Chief Information Officer.

[FR Doc. 2015-01965 Filed 1-30-15; 8:45 am]

BILLING CODE 4210-67-P